DEPARTMENT OF STATE

[Public Notice 10613]

Call for Expert Reviewers To Contribute to the U.S. Government Review of the Second and Third Special Reports To Be Undertaken by the Intergovernmental Panel on Climate Change (IPCC) During the Sixth Assessment Report (AR6) Cycle

The Department of State in cooperation with the United States Global Change Research Program (USGCRP), requests expert review of the second-order drafts of the IPCC Special Report on land and the IPCC Special Report on oceans, including the first draft of each report's Summary for Policymakers (SPM).

The United Nations Environment Programme (UNEP) and the World Meteorological Organization (WMO) established the IPCC in 1988. As reflected in its governing documents (the IPCC's “principles and procedures”), the role of the IPCC is to assess on a comprehensive, objective, open, and transparent basis the scientific, technical, and socio-economic information relevant to understanding the scientific basis of risk of human-induced climate change, its potential impacts, and options for adaptation and mitigation. IPCC reports should be neutral with respect to policy, although they may need to deal objectively with scientific, technical, and socio-economic factors relevant to the application of particular policies. The principles and procedures for the IPCC and its preparation of reports can be found at: https://www.ipcc.ch/pdf/ipcc-principles/ipcc-principles.pdf and http://ipcc.ch/pdf/ipcc-principles/ipcc-principles-appendix-a-final.pdf.

At the 45th Session of the Panel (Guadalajara, Mexico, March 28-31, 2017), the IPCC approved the outlines for the Special Report on climate change, desertification, land degradation, sustainable land management, food security, and greenhouse gas fluxes in terrestrial ecosystems (“Land Special Report”) and the Special Report on the ocean and cryosphere in a changing climate (“Oceans Special Report”). The Tables of Contents for the Special Reports can be viewed here:

http://www.ipcc.ch/meetings/session45/Decision_Outline_SR_Oceans.pdf.

http://www.ipcc.ch/meetings/session45/Decision_Outline_SR_LandUse.pdf.

Review of IPCC documents involves both peer review by experts and review by governments. All IPCC reports go through two broad reviews: A “first-order draft” reviewed by experts and a “second-order draft” reviewed by both experts and governments. The purpose of these reviews is to ensure the reports present a comprehensive, objective, and balanced view of the areas they cover.

The IPCC Secretariat has informed the U.S. Department of State that the second-order drafts of the Special Reports are available for Expert and Government Review.

As part of the U.S. Government Review—starting on November 16, 2018 for the Oceans Special Report and November 19, 2018 for the Land Special Report—experts wishing to contribute to the U.S. Government review are encouraged to register via the USGCRP Review and Comment System (https://review.globalchange.gov/). Instructions and the second-order drafts of the Special Reports will be available for download via the system. In accordance with IPCC policy, drafts of the reports are provided for review purposes only and are not to be cited or distributed. The USGCRP coordination office will compile U.S. expert comments and submit them to the IPCC, on behalf of the Department of State, by the prescribed deadline. U.S. experts have the opportunity to submit comments via the USGCRP Review and Comment System (https://review.globalchange.gov/) from November 16 to December 19, 2018, for the Oceans Special Report and from November 19 to December 19, 2018, for the Land Special Report. To be considered for inclusion in the U.S. Government submission, comments on either of the two Special Reports must be received by December 19, 2018, in the proper format. All technical comments received that are relevant to the text under review will be forwarded to the IPCC authors for their consideration.

Experts may choose to provide comments directly through the IPCC's Expert Review process, which occurs in parallel with the U.S. Government Review:

https://www.ipcc.ch/apps/comments/srocc/sod/register.php.

https://www.ipcc.ch/apps/comments/srccl/sod/register.php.

This notice will be published in the Federal Register.

Farhan H. Akhtar,
Foreign Affairs Officer, Office of Global Change, Department of State.

[FR Doc. 2018-25330 Filed 11-19-18; 8:45 am]

BILLING CODE 4710-09-P